ENVIRONMENTAL PROTECTION AGENCY

40 CFR Part 180

[EPA-HQ-OPP-2017-0006; FRL-9974-76]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before April 20, 2018.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave., NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (7511P), main telephone number: (703) 305-7090, email address: BPPDFRNotices@epa.gov; or Michael Goodis, Registration Division (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

Notice of Filing—Amended Tolerance Exemptions for Inerts (Except PIPS)

PP IN-11082. (EPA-HQ-OPP-2018-0036). Pyxis Regulatory Consulting, Inc., 4110 136TH ST CT NW GIG Harbor, WA 98332, on behalf of Aceto Corporation, 4 Tri Harbor Court, Port Washington, NY 11050, requests to amend an exemption from the requirement of a tolerance for residues of 1,1- difluoroethane (CAS Reg. No. 75-37-6) when used as an inert ingredient (propellant) in pesticide formulations applied to growing crops and raw agricultural commodities after harvest pre- and post-harvest under 40 CFR 180.910 and animals under 40 CFR 180.930 to include use in bird repellant pesticide formulations. The petitioner believes no analytical method is needed because it is not required for an exemption from the requirement of a tolerance. Contact: RD.

Notice of Filing—Amended Tolerances for Non-Inerts

PP 7E8631. (EPA-HQ-OPP-2017-0694). The Interregional Research Project No. 4 (IR-4), Rutgers, The State University of New Jersey, 500 College Road East, Suite 201 W, Princeton, NJ 08540, proposes upon establishment of tolerances referenced above under “New Tolerances” to remove existing tolerances in 40 CFR part 180. 672 for residues of the insecticide cyantraniliprole, 3-bromo-1-(3-chloro-2-pyridinyl)-N-[4-cyano-2-methyl-6-[((methylamino) carbonyl]phenyl]-1H-pyrazole-5-carboxamide, including its metabolites and degradates in or on the following commodities in or on Brassica head and stem, subgroup 5A at 3.0 ppm; Brassica leafy vegetables, subgroup 5B at 30 ppm; and Vegetable, leafy, except Brassica, group 4 at 20 ppm. The high-pressure liquid chromatography with ESI—MS/MS detection is used to measure and evaluate cyantraniliprole. Contact: RD.

Notice of Filing—New Tolerance Exemptions for Inerts (Except PIPS)

1. PP IN-11005. (EPA-HQ-OPP-2017-0179). Acadia Regulatory Consulting, LLC, 331 W King Road, Ithaca, NY 14850, on behalf of Lidan, Inc., 30 Wall Street, 8th Floor, New York, NY 10005, requests to establish an exemption from the requirement of a tolerance for residues for lignosulfonic acid, calcium, comp. with 1,6 hexanediamine polymer with guanidine hydrochloride (1:1), (CAS Reg. No. 1905409-74-6) with a minimum number average molecular weight (in amu) of 10,000 Daltons, when used as a inert ingredient in pesticide formulations under 40 CFR 180.960. The petitioner believes no analytical method is needed because it is not t required for an exemption from the requirement of a tolerance. Contact: RD.

2. PP IN-11058. (EPA-HQ-OPP-2017-0614). Exponent, 1150 Connecticut Ave. NW, Washington, DC 20036, on behalf of Aceto Corporation, 4 Tri Harbor Court, Port Washington, NY 11050, requests to establish an exemption from the requirement of a tolerance for residues of tin oxide (CAS Reg. No. 18282-10-5) when used as an inert ingredient (colorant) in pesticide formulations applied to growing crops under 40 CFR 180.920 for seed treatment use only at a maximum concentration of 40% by weight in a pesticide formulation. The petitioner believes no analytical method is needed because it is not required for an exemption from the requirement of a tolerance. Contact: RD.

3. PP IN-11077. (EPA-HQ-OPP-2017-0663). Spring Trading Comp., on behalf of Evonik Corp., P.O. Box 34628, Richmond, VA 23234, requests to establish an exemption from the requirement of a tolerance for residues of 2,4,7,9-tetramethyl-5-decyne-4,7-diol (CAS Reg. No. 126-86-3) and 2,5,8,11-tetramethyldodec-6-yne-5,8-diol (CAS Reg. No. 68227-33-8) under 40 CFR 180.910 and 180.930 when used an inert ingredient (surfactant) in pesticide formulations. The petitioner believes no analytical method is needed because it is not required for an exemption from the requirement of a tolerance. Contact: RD.

Notice of Filing—New Tolerance Exemptions for Non-Inerts (Except PIPS)

1. PP 7E8560. (EPA-HQ-OPP-2017-0705). Interregional Research Project Number 4 (IR-4), Rutgers, The State University of New Jersey, 500 College Rd. East, Suite 201 W, Princeton, NJ 08540, requests to establish an exemption from the requirement of a tolerance in 40 CFR part 180 for residues of the microbial pesticide Metschnikowia fructicola strain NRRL Y-27328 in or on stone fruit, group 12-12; small fruit vine climbing, except fuzzy kiwifruit, subgroup 13-07F; and low growing berry, subgroup 13-07G. The petitioner believes no analytical method is needed because an exemption from the requirement of a tolerance is being proposed. Contact: BPPD.

2. PP 7F8563. (EPA-HQ-OPP-2017-0748). Green Ravenna, Via Matteotti, 16-48121, Ravenna, Italy (in care of toXcel, LLC, 7140 Heritage Village Plaza, Gainesville, VA 20155), requests to establish an exemption from the requirement of a tolerance in 40 CFR part 180 for residues of the fungicide Pseudomonas sp. strain DSMZ 13134 in or on all food commodities. The petitioner believes no analytical method is needed because an exemption from the requirement of a tolerance is being proposed. Contact: BPPD.

3. PP 7F8574. (EPA-HQ-OPP-2017-0703). OmniLytics, Inc., 9100 South 500 West, Sandy, UT 84070, requests to establish an exemption from the requirement of a tolerance in 40 CFR part 180 for residues of the bactericide bacteriophage active against Xanthomonas citri subsp. citri in or on citrus fruit, including orange, grapefruit, pummelo, mandarin, lemon, lime, tangerine, tangelo, and kumquat. The petitioner believes no analytical method is needed because an exemption from the requirement of a tolerance is being proposed. Contact: BPPD.

4. PP 7F8621. (EPA-HQ-OPP-2017-0727). Andermatt Biocontrol AG, Stahlermatten 6, CH-6146 Grossdietwil, Switzerland (in care of SciReg, Inc., 12733 Director's Loop, Woodbridge, VA 22192), requests to establish an exemption from the requirement of a tolerance in 40 CFR part 180 for residues of the insecticide Autographa californica multiple nucleopolyhedrovirus (AcMNPV) strain FV#11 in or on all food commodities. The petitioner believes no analytical method is needed because AcMNPV strain FV#11 is naturally occurring and is not toxic or pathogenic; therefore, exposure to any residues of AcMNPV strain FV#11 should not be of concern for human health. Contact: BPPD.

Notice of Filing—New Tolerances for Inerts

PP IN-11030. (EPA-HQ-OPP- 2017-0591). Interregional Research Project No. 4, Rutgers, The State University of New Jersey, 500 College Road East, Suite 201 W, Princeton, NJ 08540 requests to amend a tolerance in 40 CFR part 180.560 for residues of cloquintocet-mexyl (acetic acid, [(5-chloro-8-quniolinyl)oxy]-, 1-methylhexyl ester) (CAS Reg. No. 99607-70-2) and its acid metabolite (5-chloro-8-quinlinoxyacetic acid), for use as an inert ingredient (safener) in combination with existing listed active ingredients to include use in or on the raw agricultural commodities Teff, forage at 0.2 ppm; Teff, grain at 0.1 ppm; Teff, straw at 0.1]ppm; Teff, hay at 0.5 ppm. The High Performance Liquid Chromatography with Ultraviolet Detection (HPLC-UV) method is used for the determination of cloquintocet-mexyl (parent) and the HPLC-UV method allows determination of its acid metabolite for the proposed uses. Contact: RD.

Notice of Filing—New Tolerances for Non-Inerts

PP 7E8631. (EPA-HQ-OPP-2017-0694). The Interregional Research Project No. 4 (IR-4), Rutgers, The State University of New Jersey, 500 College Road East, Suite 201 W, Princeton, NJ 08540, requests to establish a tolerance in 40 CFR part 180.672 for residues of the insecticide cyantraniliprole, 3-bromo-1-(3-chloro-2-pyridinyl)-N-[4-cyano-2-methyl-6-[((methylamino)carbonyl]phenyl]-1H-pyrazole-5-carboxamide, including its metabolites and degradates in or on the following commodities in or on Berry, low growing, except strawberry, subgroup 13-07H, except blueberry, lowbush and lingonberry at 0.08 parts per million (ppm) (proposal to replace an existing tolerance at the same level that is only for imported Berry, low growing, except strawberry, subgroup 13-07H, with a tolerance supporting both domestic production and imported low growing berries, except strawberries); Brassica, leafy greens, subgroup 4-16B at 30 ppm; Caneberry subgroup 13-07A at 4.0 ppm; Celtuce at 20 ppm; Coffee, green bean at 0.05 ppm (proposal to replace an existing tolerance at the same level that is only for imported Coffee, green bean with a tolerance supporting both domestic production and imported coffee); Florence fennel at 20 ppm; Kohlrabi at 3.0 ppm; Leafy greens subgroup 4-16A at 20 ppm; Leaf petiole vegetable subgroup 22B at 20 ppm; and Vegetable, brassica, head and stem, group 5-16 at 3.0 ppm. The high-pressure liquid chromatography with ESI-MS/MS detection is used to measure and evaluate cyantraniliprole. Contact: RD.

Authority: 21 U.S.C. 346a.

Dated: February 27, 2018.
Hamaad Syed,
Acting Director, Information Technology and Resources Management Division, Office of Pesticide Programs.

[FR Doc. 2018-05639 Filed 3-20-18; 8:45 am]

BILLING CODE 6560-50-P